DEPARTMENT OF HEALTH AND HUMAN SERVICES

Administration for Children and Families

Proposed Information Collection Activity; Comment Request

Proposed Projects:

Title: Title V Section 510 Abstinence Education Grant Program-Annual Program Application and Annual Performance Progress Report.

OMB No.: 0970-0271 (formerly 0915-0291 when in HRSA).

Description: The Title V Section 510 Abstinence Education Grant Program (Section 510 program) is a formula block grant program, authorized through June 30, 2007, by the Tax Relief and Health Care Act of 2006.

The Section 510 Annual Program Application requires basic application information that will be used by the Administration for Children and Families (ACF) to establish applicant eligibility, determine each applicant's compliance with Federal law, review and evaluate each applicant's proposed plans, and to develop any conditions to be placed on grant awards. Projects must meet the legislative priorities as described in Section 510 of Title V of the Social Security Act.

The Section 510 Annual Performance Progress Report includes four forms through which grantees report basic performance information, which is used by ACF to determine each grantee's compliance with Federal law and to review and evaluate each applicant's progress toward achieving its goals. Basic performance information includes the unduplicated count of clients served, hours of service received by clients, program completion data, and communities served.

Respondents: The 50 States, the District of Columbia, and the following 8 Territories: American Samoa, Guam, Republic of the Marshall Islands, Federated States of Micronesia, Commonwealth of the Northern Mariana Islands, Republic of Palau, Commonwealth of Puerto Rico, and the U.S. Virgin Islands.

Annual Burden Estimates
Instrument | Number of respondents | Number of responses per respondent | Average burden hours per response | Total burden hours
Annual Program Application | 59 | 1 | 40 | 2,360
Annual Performance Progress Report | 59 | 1 | 130 | 7,670

Estimated Total Annual Burden Hours: 10,030.

In compliance with the requirements of Section 3506(c)(2)(A) of the Paperwork Reduction Act of 1995, the Administration for Children and Families is soliciting public comment on the specific aspects of the information collection described above. Copies of the proposed collection of information can be obtained and comments may be forwarded by writing to the Administration for Children and Families, Office of Administration, Office of Information Services, 370 L'Enfant Promenade, SW., Washington, DC 20447, Attn: ACF Reports Clearance Officer. E-mail address: infocolleciotn@acf.hhs.gov. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Dated: May 20, 2007.
Robert Sargis,
Reports Clearance Officer.

[FR Doc. 07-2628 Filed 5-25-07; 8:45 am]

BILLING CODE 4184-01-M